DEPARTMENT OF HEALTH AND HUMAN SERVICES

National Institutes of Health

National Heart, Lung, and Blood Institute; Amended Notice of Meeting

Notice is hereby given of a change in the meeting of the National Heart, Lung, and Blood Advisory Council, October 29, 2026, 12:00 p.m. to October 29, 2026, 04:00 p.m., Claude D. Pepper Building, 31 Center Drive, Bethesda, MD 20892 which was published in the Federal Register on January 26, 2026, 91 FRN 3210.

The National Heart, Lung, and Blood Advisory Council open meeting is being amended due to a change in the meeting date from October 29, 2026, to March 25, 2026; meeting format from regular to virtual; and the meeting location Claude D. Pepper Building, 31 Center Drive, Bethesda, MD 20892 to 6701 Rockledge Drive, Bethesda, MD 20892. The meeting is partially Closed to the public.

Dated: January 26, 2026.
Denise M. Santeufemio,
Supervisory Program Analyst, Office of Federal Advisory Committee Policy.

[FR Doc. 2026-01689 Filed 1-27-26; 8:45 am]

BILLING CODE 4140-01-P